DEPARTMENT OF HEALTH AND HUMAN SERVICES

Centers for Disease Control and Prevention

[30Day-10-0128]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

Congenital Syphilis (CS) Case Investigation and Report Form (CDC73.126), OMB No. 0920-0128, (exp. 02/28/2010)—revision—National Center for HIV/AIDS, Viral Hepatitis, STD and TB Prevention (NCHHSTP), Centers for Disease Control and Prevention (CDC).

Background and Brief Description

The purpose of the proposed revision is to continue data collection for congenital syphilis case investigations with a revised “Congenital Syphilis (CS) Case Investigation and Report Form” (CDC73.126). The CS Form is currently approved under OMB No. 0920-0128. This request is to extend clearance for 0920-0128 for an additional three years with revisions to the instrument, and decrease in the burden hours. The instrument is revised to exclude “reporting city” and “resident city” information blocks from the CS Form.

Reducing congenital syphilis is a national objective in the Department of Health and Human Services (DHHS) Report entitled Healthy People 2010 (Vol. I and II). Objective 25-9 of the DHHS document states the goal to “reduce congenital syphilis to 1 new case per 100,000 live births.” In order to meet this national objective, an effective surveillance system for congenital syphilis must be continued to monitor current levels of disease and progress towards the year 2010 objective. These data will also be used to develop intervention strategies and to evaluate ongoing control efforts. There is no cost to respondents other than their time. In addition to modifications to the form, seven reporting areas have stopped using the paper collection form and are now reporting CS data electronically. As a result, the total estimated annualized burden hours have been reduced from 130 to 63.

Estimated Annualized Burden Hours
Types of respondent | Form name | Number of respondents | Number of responses per respondent | Average burden per response (in hours)
State Health Departments | Congenital Syphilis (CS) Case Investigation and Report | 10 | 11 | 20/60
Territorial Health Agencies | Congenital Syphilis (CS) Case Investigation and Report | 3 | 11 | 20/60
City and county health departments | Congenital Syphilis (CS) Case Investigation and Report | 4 | 11 | 20/60

Dated: February 3, 2010.
Maryam I. Daneshvar,
Acting Reports Clearance Officer, Centers for Disease Control and Prevention.

[FR Doc. 2010-2909 Filed 2-9-10; 8:45 am]

BILLING CODE 4163-18-P